DEPARTMENT OF DEFENSE

Department of the Navy

Notice of Public Hearings of the Draft Environmental Impact Statement for Basing the U.S. Marine Corps Joint Strike Fighter F-35B on the West Coast

AGENCY: Department of the Navy, DoD.

ACTION: Notice.

SUMMARY: Pursuant to section (102)(2)(c) of the National Environmental Policy Act (NEPA) of 1969, and regulations implemented by the Council on Environmental Quality (40 Code of Federal Regulations [CFR] parts 1500-1508), Department of Navy (DoN) NEPA regulations (32 CFR part 775), and U.S. Marine Corps (USMC) NEPA directives (Marine Corps Order P5090.2A, changes 1 and 2), DoN has prepared and filed with the U.S. Environmental Protection Agency (EPA) a Draft Environmental Impact Statement (EIS) that evaluates the potential environmental consequences that may result from the basing of the F-35B Joint Strike Fighter (JSF) on the West Coast of the United States.

With the filing of the Draft EIS, DoN is initiating a 46-day public comment period and has scheduled two public comment meetings to receive oral and written comments on the Draft EIS. Federal, State and local agencies, and interested parties are encouraged to provide comments in person at any of the public comment meetings, or in writing anytime during the public comment period. This notice announces the date and location of the public meetings and provides supplementary information about the environmental planning effort.

DATES: The Draft EIS public review period will begin May 21, 2010, and end on July 6, 2010. Each of the two public meetings will be conducted as an informational open house. Individuals will have the opportunity to review the information presented in the Draft EIS. Marine Corps and Navy representatives will be available to clarify information related to the Draft EIS. Public comment meetings will be held:

(1) June 15, 2010, 5 p.m. to 8 p.m., at Scripps-Miramar Ranch Library Miramar, 10301 Scripps Lake Drive, San Diego, CA.

(2) June 17, 2010, 4 p.m. to 7 p.m., at Gila Vista Junior High School, 2245 S. Arizona Ave., Yuma, AZ.

Attendees will be able to submit written comments at the public meetings. A stenographer will be present to transcribe oral comments; however, to ensure the accuracy of the record, all statements should be submitted in writing. Equal weight will be given to oral and written statements. All statements, oral transcription and written, submitted during the public review period will become part of the public record on the Draft EIS and will be responded to in the Final EIS. Comments may also be submitted by regular U.S. mail or electronically as described below.

ADDRESSES: A copy of the Draft EIS is available at the project Web site, http://www.usmcjsfwest.com, and at the local libraries identified at the end of this notice. Comments on the Draft EIS can be submitted via the project Web site, or submitted in writing to: Naval Facilities Engineering Command Southwest, Attn: JSF EIS Project Manager, 1220 Pacific Highway, San Diego, California 92132-5190. Mailed comments must be postmarked by July 6, 2010, and electronic comments must be submitted on or before July 6, 2010, to be considered in this environmental review process.

FOR FURTHER INFORMATION CONTACT: Ms. Adrianne Saboya, Environmental Planner, Central Integrated Product Team at telephone: 619-532-4742, by fax: 619-532-4160 or write to Naval Facilities Engineering Command Southwest, Attn: Ms. Adrianne Saboya, 1220 Pacific Highway, San Diego, California 92132-5190.

SUPPLEMENTARY INFORMATION: A Notice of Intent (NOI) for the EIS was published in the Federal Register on January 19, 2009 (Vol. 74, No. 10, p. 2515).

Proposed Action

The proposed action would base up to 11 operational F-35B squadrons and 1 Operational Test and Evaluation (OT&E) squadron (184 aircraft) on the West Coast, and would replace eight F/A-18 squadrons (126 aircraft) and four AV-8B squadrons (56 aircraft) currently authorized for basing on the West Coast. The proposed action also includes construction and/or renovation of airfield facilities necessary to accommodate and maintain the F-35B squadrons, including construction of an auxiliary landing field on the Barry M. Goldwater Range West in Arizona; changes to personnel in support of basing; and conducting F-35B training and readiness operations in existing airspace and on existing ranges to ensure pilots attain and maintain combat ready status. The eight F/A-18 squadrons to be replaced are currently authorized for basing at Marine Corps Air Station (MCAS) Miramar. The four AV-8B squadrons are based at MCAS Yuma.

Purpose and Need

The purpose of the Proposed Action is to efficiently and effectively maintain combat capability and mission readiness as the Marine Corps faces increased deployments across a spectrum of conflicts, and a corresponding increased difficulty in maintaining an aging legacy aircraft inventory. The need for the proposed action is to replace aging legacy aircraft and integrate the operational and OT&E F-35B squadrons into the existing Marine Corps command and organizational structure. This action would also ensure that the Marine Corps' aircrews benefit from the aircraft's major technological improvements and enhanced training and readiness requirements.

Alternatives Considered in the Draft EIS

The proposed F-35B squadrons would be split between two aviation facilities. Evaluations were made of the following five split-basing alternatives.

• Alternative 1 (Preferred)—Six operational squadrons at MCAS Miramar in San Diego County, California, and five operational squadrons plus one OT&E squadron at MCAS Yuma in southwestern Arizona.

• Alternative 2—Four operational squadrons at MCAS Miramar and seven operational squadrons plus one OT&E squadron at MCAS Yuma.

• Alternative 3—Seven operational squadrons plus one OT&E squadron at MCAS Miramar and four operational squadrons at MCAS Yuma.

• Alternative 4—One operational squadron plus one OT&E squadron at MCAS Miramar and ten operational squadrons at MCAS YUMA.

• Alternative 5—Ten operational squadrons at MCAS Miramar and one operational squadron plus one OT&E squadron at MCAS Yuma.

Under all basing alternatives, MCAS Miramar would lose eight F/A-18 squadrons and MCAS Yuma would lose four AV-8B squadrons. Construction of an auxiliary landing field within the Barry M. Goldwater Range West, as well as operations within the Bob Stump Training Range Complex and Barry M. Goldwater Range East are included as part of each basing alternative. A sixth alternative, No Action, assumes no aircraft would be replaced, aircraft operations would continue at the current level, and no infrastructure improvements or personnel changes related to basing the F-35B aircraft on the West Coast would occur.

Potential impacts were evaluated in the Draft EIS under all alternatives for the following resources: airfields and airspace; noise; air quality; safety and environmental health; land use; infrastructure and utilities; socioeconomics; community facilities and services; ground traffic and transportation; environmental justice; hazardous materials management; biological resources; topography, geology and soils; water resources; and cultural and traditional resources.

The preferred alternative would result in a reduction of 30 aircraft and 635 military personnel at MCAS Miramar and an increase of 32 aircraft and 491 military personnel at MCAS Yuma. New support facilities at MCAS Miramar would include two new hangars, helipad and apron expansion, wash racks and rinse facilities, a simulator facility, and a runway upgrade. New support facilities at MCAS Yuma would include four new hangars, modifications to an existing hangar, new wash racks, runway upgrades, enlisted quarters and dining facility, a simulator facility, new parking apron, and other minor infrastructure improvements.

Environmental consequences of the proposed action would principally arise from construction; impacts from operation of the F-35B would be relatively minor. The Draft EIS enumerates an array of conservation and construction measures and features of project design and planning that would avoid and minimize most potential impacts. The proposed action would fully comply with regulatory requirements for the protection of environmental resources.

Unavoidable impacts of implementing the preferred alternative include construction impacts on biological resources at MCAS Miramar, especially one threatened (Coastal California Gnatcatcher) and one endangered species (San Diego Fairy Shrimp), and loss of 0.05 acres of vernal pool habitat. Construction of an auxiliary landing field at the Barry M. Goldwater Range West would affect habitat for a species (flat-tailed horned lizard) proposed for listing as threatened. A Biological Assessment has been submitted to the U.S. Fish & Wildlife Service in compliance with Section 7 of the Endangered Species Act.

The other alternatives have similar types and levels of impacts, with the most extensive unavoidable impacts occurring at MCAS Miramar under Alternative 5 (10 operational squadrons at MCAS Miramar, 1 operational and 1 OT&E squadron at MCAS Yuma) related to the loss of an area supporting vernal pool habitat and associated federally listed species.

Schedule

The Notice of Availability publication in the Federal Register and local print media starts the 46-day public comment period for the Draft EIS. DoN will consider and respond to all written and electronic comments, including e-mail, submitted as described above in preparing the Final EIS. DoN intends to issue the Final EIS in September 2010, at which time an NOA will be published in the Federal Register and local print media. A Record of Decision is expected in December 2010. Copies of the Draft EIS can be found on the project Web site, http://www.usmcjsfwest.com or at the following locations:

(1) San Diego County Public Library Fallbrook Branch, 124 S. Mission Road, Fallbrook, CA 92028, telephone: 760-728-2373,

(2) San Diego Public Library Mira Mesa Branch, 8405 New Salem Street, San Diego, CA 92126, telephone: 858-538-8165,

(3) Scripps-Miramar Ranch Library Miramar, 10301 Scripps Lake Drive, San Diego, CA 92131, telephone: 858-538-8158,

(4) Yuma County Library Heritage Branch (Main Library) 350 Third Avenue, Yuma, AZ 85364, telephone: 928-782-1871.

Dated: May 18, 2010.
A.M. Vallandingham,
Lieutenant Commander, Judge Advocate General's Corps, U.S. Navy, Federal Register Liaison Officer.

[FR Doc. 2010-12525 Filed 5-24-10; 8:45 am]

BILLING CODE 3810-FF-P